DEPARTMENT OF AGRICULTURE

Agricultural Marketing Service

[TM-02-05]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: September 17, 2002, 8 a.m. to 6 p.m.; September 18, 2002, 8 a.m. to 6 p.m.; and September 19, 2002, 8 a.m. to 6:30 p.m. Requests from individuals and organizations wishing to make an oral presentation at the meeting are due by the close of business on September 1, 2002.

ADDRESSES: The meeting will take place at the Radisson Barceló Hotel, Board Room, 2121 P Street, NW., Washington, DC. Requests to make an oral presentation at the meeting may be sent to Ms. Katherine Benham at USDA-AMS-TMD-NOP, 1400 Independence Avenue, SW., Room 4008-So., Ag Stop 0268, Washington, DC 20250-0200. Requests to make an oral presentation at the meeting may also be sent electronically to Ms. Katherine Benham at katherine.benham@usda.gov, via telephone at (202) 205-7806, or via facsimile at (202) 205-7808.

The September NOSB meeting agenda is available at http://www.ams.usda.gov/nop or from Ms. Katherine Benham at (202) 205-7806, preceding addresses or via telephone (202) 205-7806.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on other aspects of the implementation of OFPA. The NOSB met for the first time in Washington, DC, in March 1992, and currently has six committees working on various aspects of the organic program. The committees are: Accreditation, Crops, Livestock, Materials, International, and Processing.

In August of 1994, the NOSB provided its initial recommendations for the National Organic Program (NOP) to the Secretary of Agriculture. Since that time, the NOSB has submitted 42 addenda to its recommendations and reviewed more than 220 substances for inclusion on the National List of Allowed and Prohibited Substances. The last meeting of the NOSB was held on May 6-8, 2002, in Austin, Texas.

The Department of Agriculture (USDA) published its final National Organic Program regulation in the Federal Register on December 21, 2000 (65 FR 80548). The rule became effective April 21, 2001.

The principal purposes of the meeting are to provide an opportunity for the NOSB to: receive an update from the USDA/NOP, receive a recommendation from the Livestock Committee, and review materials to determine if they should be recommended for inclusion on the National List of Allowed and Prohibited Substances.

The Livestock Committee will present for NOSB consideration its recommendations on “dairy animal replacement.” The Materials Committee will present 32 materials for consideration for possible inclusion on the National List of Allowed and Prohibited Substances.

Materials to be reviewed at the meeting by the NOSB are as follows:

Crop Production: Potassium Sulfate, Ozone Gas (two petitions), Potassium Silicate, Tetrahydrofurfuryl Alcohol, Phermones (amend annotation), Sodium (Chilean) Nitrate (Remove and Amend Annotation), 1,4 Dimethylnaphthalene.

Livestock Production: Propylene Glycol, Magnesium Hydroxide/Magnesium Oxide, Epinephrine aka Adrenaline, Kaolin Pectin, Bismuth Subsalicylate, Flunixin (Banamine), Xylazine/Tolazoline, Butorphanol, Potassium Sorbate, Cell Wall Carbohydrates, Yeast Derivatives, Proteinated Chelates, Atropine, Heparine, Furosemide, Calcium Propionate, Mineral Oil, Activated Charcoal.

Processing: Calcium Stearate, Tetrasodium Pyrophosphate, Hydroxypropyl Methylcellulose, Glucono Delta Lactone, Activated Charcoal, and Glycerol Monoleate.

For further information, see http://www.ams.usda.gov/nop. Copies of the NOSB meeting agenda can be requested from Ms. Katherine Benham by telephone at (202) 205-7806; or obtained by accessing the NOP website at http://www.ams.usda.gov/nop.

The meeting is open to the public. The NOSB has scheduled time for public input on Tuesday, September 17, 2002, from 8:30 a.m. until 11:30 a.m.; and Thursday, September 19, 2002, from 5 p.m. until 6 p.m., at the Radisson Barceló Hotel, 2121 P Street, NW., Washington, DC. Individuals and organizations wishing to make an oral presentation at the meeting may make their requests via letter, telephone, E-mail or facsimile to Ms. Katherine Benham as set forth in the addresses section of this notice. While persons wishing to make a presentation, may also sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments must be submitted to Ms. Benham, prior to or after the meeting, at USDA-AMS-TMD-NOP, 1400 Independence Avenue, SW., Room 4008-So., Ag Stop 0268, Washington, DC 20250-0200. Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP website to view documents from this meeting.

Dated: August 19, 2002.
A.J. Yates,
Administrator, Agricultural Marketing Service.

[FR Doc. 02-21611 Filed 8-23-02; 8:45 am]

BILLING CODE 3410-02-P